INTERNATIONAL TRADE COMMISSION

[Investigation Nos. 701-TA-449 and 731-TA-1118-1121 (Review)]

Light-Walled Rectangular Pipe From China, Korea, Mexico, and Turkey; Determinations

On the basis of the record ¹ developed in the subject five-year reviews, the United States International Trade Commission (Commission) determines,² pursuant to section 751(c) of the Tariff Act of 1930 (19 U.S.C. 1675(c)), that revocation of the countervailing duty order on light-walled rectangular pipe and tube from China and the antidumping duty orders on light-walled rectangular pipe and tube from China, Korea, Mexico, and Turkey would be likely to lead to continuation or recurrence of material injury to an industry in the United States within a reasonably foreseeable time.³

¹ The record is defined in sec. 207.2(f) of the Commission's Rules of Practice and Procedure (19 CFR 207.2(f)).

² Commissioner Rhonda K. Schmidtlein not participating.

³ Commissioner Meredith M. Broadbent dissenting with respect to imports of light-walled rectangular pipe and tube from Mexico.

Background

The Commission instituted these reviews on April 1, 2013 (78 FR 19526) and determined on July 5, 2013 that it would conduct full reviews (78 FR 42546, July 16, 2013). Notice of the scheduling of the Commission's reviews and of a public hearing to be held in connection therewith was given by posting copies of the notice in the Office of the Secretary, U.S. International Trade Commission, Washington, DC, and by publishing the notice in the Federal Register on December 3, 2013 (78 FR 74161, December 10, 2013). The hearing was held in Washington, DC, on April 3, 2014, and all persons who requested the opportunity were permitted to appear in person or by counsel.

The Commission completed and filed its determination in these reviews on June 9, 2014. The views of the Commission are contained in USITC Publication 4470 (June 2013), entitled Light-Walled Rectangular Pipe and Tube from China, Korea, Mexico, Turkey: Investigation Nos. 701-TA-449 and 731-TA-1118-1121 (Review).

By order of the Commission.
Issued: June 9, 2014.
Lisa R. Barton,
Secretary to the Commission.

[FR Doc. 2014-13816 Filed 6-12-14; 8:45 am]

BILLING CODE 7020-02-P